DEPARTMENT OF COMMERCE

International Trade Administration

[A-570-855]

Non-Frozen Apple Juice Concentrate From the People's Republic of China: Final Results of Sunset Review and Revocation of Order

AGENCY: Import Administration, International Trade Administration, Department of Commerce.

SUMMARY: On October 1, 2010, the Department of Commerce (“Department”) initiated the sunset review of the antidumping duty order on non-frozen apple juice concentrate from the People's Republic of China (“PRC”). Because the domestic interested parties did not participate in this sunset review, the Department is revoking this antidumping duty order.

FOR FURTHER INFORMATION CONTACT: Emeka Chukwudebe, AD/CVD Operations, Import Administration, International Trade Administration, U.S. Department of Commerce, 14th Street and Constitution Avenue, NW., Washington, DC 20230; telephone: (202) 482-0219.

SUPPLEMENTARY INFORMATION:

Background

On June 5, 2000, the Department issued an antidumping duty order on certain non-frozen apple juice concentrate from the PRC. See Notice of Amended Final Determination of Sales at Less Than Fair Value and Antidumping Duty Order: Certain Non-Frozen Apple Juice Concentrate From the People's Republic of China, 65 FR 35606 (June 5, 2000). On November 2, 2005, the Department published its most recent continuation of the order. See Notice of Continuation of Antidumping Duty Order on Certain Non-Frozen Apple Juice Concentrate from the People's Republic of China, 70 FR 66349 (November 2, 2005) (“Notice of Continuation”). On October 1, 2010, the Department initiated a sunset review of this order. See Initiation of Five-Year (“Sunset”) Review, 75 FR 60731 (October 1, 2010).

We did not receive a notice of intent to participate from domestic interested parties in this sunset review by the deadline date. As a result, in accordance with 19 CFR 351.218(d)(1)(iii)(A), the Department determined that no domestic interested party intends to participate in the sunset review, and on October 21, 2010, we notified the International Trade Commission, in writing, that we intended to issue a final determination revoking this antidumping duty order. See 19 CFR 351.218(d)(1)(iii)(B)(2).

Scope of the Order

The product covered by this order is certain non-frozen apple juice concentrate. Apple juice concentrate is defined as all non-frozen concentrated apple juice with a brix scale of 40 or greater, whether or not containing added sugar or other sweetening matter, and whether or not fortified with vitamins or minerals. Excluded from the scope of this order are: Frozen concentrated apple juice; non-frozen concentrated apple juice that has been fermented; and non-frozen concentrated apple juice to which spirits have been added.

The merchandise subject to this order is classified in the Harmonized Tariff Schedule of the United States (“HTSUS”) at subheadings 2106.90.52.00, and 2009.70.00.20 before January 1, 2002, and 2009.79.00.20 after January 1, 2002. Although the HTSUS subheadings are provided for convenience and customs purposes, the written description of the scope of the order is dispositive.

Determination To Revoke

Pursuant to section 751(c)(3)(A) of the Tariff Act of 1930, as amended (“the Act”) and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, consistent with 19 CFR 351.222(i)(1)(i) and section 751(c)(3)(A) of the Act, we are revoking this antidumping duty order. Furthermore, although 19 CFR 351.222(i)(1)(i) identifies the fifth anniversary of the publication of the order as the effective date, in Parkdale v. United States, the Court of International Trade (“CIT”) clarified that the Department's determination of the effective date of revocation is a discretionary, not a ministerial act. See Parkdale International Ltd. v. U.S., 581 F.Supp.2d 1334 (“Parkdale v. United States”) (CIT 2008). Therefore, the effective date of revocation of this antidumping duty order is November 2, 2010, the fifth anniversary of the date of publication in the Federal Register of the most recent notice of continuation of this antidumping duty order. See Notice of Continuation.

Effective Date of Revocation

Pursuant to section 751(c)(3)(A) of the Act and 19 CFR 351.222(i)(2)(i), the Department intends to issue instructions to U.S. Customs and Border Protection, 15 days after publication of this notice, to terminate the suspension of liquidation of the merchandise subject to this order entered, or withdrawn from warehouse, on or after November 2, 2010. Entries of subject merchandise prior to the effective date of revocation will continue to be subject to suspension of liquidation and antidumping duty deposit requirements. The Department will complete any pending administrative reviews of this order and will conduct administrative reviews of subject merchandise entered prior to the effective date of revocation in response to appropriately filed requests of review.

This five-year (“sunset”) review and notice are published in accordance with sections 751(c) and 777(i)(1) of the Act.

Dated: November 8, 2010.
Ronald K. Lorentzen,
Deputy Assistant Secretary for Import Administration.

[FR Doc. 2010-28678 Filed 11-12-10; 8:45 am]

BILLING CODE 3510-DS-P